FEDERAL COMMUNICATIONS COMMISSION

47 CFR Part 73

[DA 01-927; MM Docket No. 00-166; RM-9951; RM-10015; RM-10016]

Radio Broadcasting Services; Wickenburg, Bagdad and Aguila, AZ

AGENCY: Federal Communications Commission.

ACTION: Final rule.

SUMMARY: This document allots Channel 242C3 to Wickenburg, Arizona, as that community's third local FM service, in response to a petition for rule making filed on behalf of Wickenburg Broadcasting. See 65 FR 56857, September 20, 2000. In response to a counterproposal filed on behalf of Bagdad Broadcasting Company, this document also allots Channel 246C3 to Bagdad, Arizona, as that community's second local FM service (RM-10015). Additionally, in response to a counterproposal filed on behalf of Circle S Broadcasting Co., Inc., this document allots Channel 297C3 to Aguila, Arizona, as that community's first local aural service (RM-10016) and partially denies the Circle S counterproposal to the extent it also requested modification of its Station KSWG(FM), Channel 231C3, Wickenburg to specify operation on Channel 242C3 at Wickenburg. Coordinates used for Channel 242C3 at Wickenburg are 34-01-01 NL; 112-41-46 WL; coordinates for Channel 246C3 at Bagdad are 34-36-11 NL; 113-12-04 WL; coordinates used for Channel 297C3 at Aguila are 33-56-34 NL; 113-10-24 WL. As Wickenburg, Bagdad and Aguila are all located within 320 kilometers (199 miles) of the US-Mexico border, concurrence of the Mexican government has been requested for Channels 242C3, 246C3 and 297C3, respectively, at those communities but has not been received. Therefore, if construction permits are granted for the specified channels at Wickenburg, Bagdad and Aguila prior to receipt of final notification by the Mexican government, the authorizations will include the following condition: “Operation with the facilities specified herein is subject to modification, suspension or termination without right to a hearing if found by the Commission to be necessary in order to conform to the 1992 USA-Mexico FM Broadcast Agreement, or if specifically objected to by Mexico.” With this action, this docketed proceeding is terminated.

DATES: Effective May 29, 2001. Filing windows for Channel 242C3 at Wickenburg, Arizona, Channel 246C3 at Bagdad, Arizona, and Channel 297C3 at Aguila, Arizona, will not be opened at this time. Instead, the issue of opening those allotments for auction will be addressed by the Commission in a subsequent Order.

FOR FURTHER INFORMATION CONTACT: Nancy Joyner, Mass Media Bureau, (202) 418-2180.

SUPPLEMENTARY INFORMATION: This is a synopsis of the Commission's Report and Order, MM Docket No. 00-166, adopted April 4, 2001, and released April 13, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Arizona, is amended by adding Aguila, Channel 297C3; adding Channel 246C3 at Bagdad; and adding Channel 242C3 at Wickenburg.

Federal Communications Commission.
John A. Karousos,
Chief, Allocations Branch, Policy and Rules Division, Mass Media Bureau.

[FR Doc. 01-10704 Filed 4-30-01; 8:45 am]

BILLING CODE 6712-01-P